DEPARTMENT OF THE INTERIOR

Office of the Secretary

Notice of Proposed New Information Collection for Focus Groups for Non-use Valuation Survey, Klamath Basin

AGENCY: Office of Policy Analysis, Interior.

ACTION: Notice and request for comments.

SUMMARY: In compliance with section 3506(c)(2)(A) of the Paperwork Reduction Act of 1995, the Office of Conservation, Partnerships & Management Policy announces that it has submitted a request for approval of a new information collection to the Office of Management and Budget (OMB), and requests public comments on this submission.

DATES: OMB has up to 60 days to approve or disapprove the information collection request, but may respond after 30 days; therefore, public comments should be submitted to OMB by May 6, 2010, in order to be assured of consideration.

ADDRESSES: Send your written comments by facsimile 202-395-5806 or e-mail (OIRA_DOCKET@omb.eop.gov) to the Office of Information and Regulatory Affairs, Office of Management and Budget, Attention: Department of the Interior Desk Officer (1090-NEW). Mail or hand-carry comments to the Department of the Interior, Office of Policy Analysis, Attention: Don Bieniewicz, Mail Stop 3530; 1849 C Street, NW., Washington, DC 20240. If you wish to e-mail comments, the e-mail address is Donald_Bieniewicz@ios.doi.gov. Reference “Focus Groups for Klamath non-use value survey” in your e-mail subject line. Include your name and return address in your e-mail message and mark your message for return receipt.

FOR FURTHER INFORMATION CONTACT: To request more information on this proposed information collection, please write to Benjamin Simon, Office of Policy Analysis, Mailstop 3530-MIB, U.S. Department of the Interior, Washington, DC 20240 or telephone at 202-208-5978 or by e-mail at Benjamin_Simon@ios.doi.gov.

SUPPLEMENTARY INFORMATION:

I. Abstract

Office of Management and Budget (OMB) regulations at 5 CFR part 1320, which implement the Paperwork Reduction Act of 1995 (Pub. L. 104-13), require that interested members of the public and affected agencies have an opportunity to comment on information collection and recordkeeping activities (see 5 CFR 1320.8(d)).

The U.S. Department of the Interior (DOI) is requesting approval for a new information collection related to the use of focus groups to pretest the Klamath Nonuse Valuation Survey it is developing.

The Klamath River Basin provides essential habitat for several fish species including Chinook salmon, Coho salmon, Steelhead trout, Pacific lamprey, and Shortnose suckers. Some of these species are important components of ocean and/or in-river harvest, while others are rarely harvested due to fishery regulations, limited availability, and/or listed status under the Endangered Species Act (ESA). In addition to its importance as fish habitat, the Klamath River and its tributaries also provides water to agriculture through the Bureau of Reclamation's Klamath Irrigation Project. Oversubscription of Klamath water has thwarted recovery of depressed fish stocks and led to economic hardship for farming and fishing communities—prompting federal disaster relief for farmers in 2001 and for fishermen in 2006.

In February 2010, the U.S. Government, the States of Oregon and California, the chairmen of the Klamath, Yurok and Karuk Tribes, and the utility company PacifiCorp signed the Klamath Basin Restoration Agreement (KBRA) and the Klamath Hydroelectric Settlement Agreement. These agreements define a set of activities, including the removal of four dams on the Klamath River by 2020, which are designed to restore fisheries and provide water supply certainty in the Basin. The Hydroelectric Settlement Agreement calls for the Secretary to determine whether dam removal will advance restoration of the salmonid fisheries of the Klamath Basin and is in the public interest. In October 2011 the Secretary of the Interior is expected to make a final determination regarding dam removal and the KBRA, contingent on results of an economic analysis that will address benefits, costs and distributional effects of dam removal. An interagency economics team consisting of representatives from DOI agencies including the Fish and Wildlife Service and Bureau of Reclamation, and National Oceanic and Atmospheric Administration (NOAA) National Marine Fisheries Service is responsible for completing the economic analysis that will inform the Secretarial determination.

To comply with the National Environmental Policy Act, an Environmental Impact Statement (EIS) must be prepared. One important area of benefits that needs to be addressed as part of the EIS is “nonuse value.” Nonuse values accrue to members of the public who value Klamath Basin improvements regardless of whether they ever consume Klamath fish or visit the Klamath Basin. To measure these values, DOI has contracted with RTI International in Research Triangle Park, NC, to design and implement a nonuse valuation survey of the U.S. public. A key aspect of the survey design process is to use focus groups and cognitive, one-on-one interviews (the cognitive interviews will be addressed in a later ICR). The main objectives of these information collection activities are to ensure that the survey questions and scenarios are presented to respondents in a way that is accurate, easily understood and least burdensome, while at the same time collecting all of the necessary information for estimating nonuse values. Because of the controversy over the agreement in the Klamath Basin, the survey text needs to be neutral and present all sides.

II. Method of Collection

DOI has contracted with RTI International in Research Triangle Park, NC, to pretest the nonuse valuation survey by conducting 4 focus groups. DOI and RTI will use the results of these information collection activities to optimize the design of the survey instrument. The nonuse valuation survey will apply a stated preference conjoint analysis approach. In this approach, respondents are first presented with a choice context—in this case, the opportunity to vote on alternative plans for the future of the Klamath River Basin. The description of the choice context requires an explanation of current (i.e., baseline) conditions including ecological, water quality, and water availability conditions as they currently exist and of possible actions for improving habitat for fish and providing a more natural flow of the river, including dam removal and ecosystem restoration activities. Second, the survey describes the main dimensions (i.e., attributes) over which the different possible actions will vary, including the extent and timing of fish recovery and cost per household. Third, respondents are presented with a series of choice tasks where they are asked to compare and state their preferences for alternative actions, which vary in the previously described dimensions. The focus groups will provide valuable information to address several key questions relating to the survey and, in particular, the conjoint design. First, can respondents fully understand and accept the choice context? If not, how could the information be expanded, revised, reformatted, or reorganized to facilitate understanding of the context or to make the choice context more plausible for respondents. Second, what attributes (i.e., outcomes) of alternative KBRA actions matter most to respondents, and how well do these align with the attributes presented and varied in the conjoint task questions? Third, are the attributes of the alternative actions and the different levels of these attributes described and communicated to respondents in the most meaningful and understandable way? Fourth, which types and combinations of visuals—i.e., maps, graphs, and pictures—are most helpful to respondents for understanding the context and choice tasks? Fifth, to what extent do the answers to the previous questions depend on how far respondents live from the Klamath Basin? How can the survey materials be presented in a way that is meaningful for individuals from across the country who are likely to have very different levels of familiarity with and interest in the Klamath region and its river restoration issues?

Two of the focus groups will be conducted in or near the Klamath Basin—one in Southern Oregon (e.g., Medford or Klamath Falls) and one in Northern California (e.g., Yreka or Redding). The other two focus groups will be conducted in other parts of the country—one in Raleigh, NC, and the other in Minneapolis/St. Paul, MN. Because the survey is intended for the general population of adults in the U.S., the only screening criteria for the focus groups will be to exclude individuals younger than 21 years of age. Otherwise, individuals will be recruited to ensure that a broad mix of sociodemographic characteristics are represented, including sex, age, education, income, race, and rural/urban residence.

Each focus group will have an experienced moderator who will use a moderator guide to conduct the focus group. Each focus group participant will complete a focus group participant worksheet collecting basic demographic information and a consent form.

III. Data

(1) Title: Non-use Valuation Survey, Klamath River Dam Removal.

OMB Control Number: 1090-NEW.

Type of Review: Information Collection: New.

Affected Entities: Individuals or households

Estimated Annual Number of Respondents: 141.

Frequency of Response: Focus groups will be one-time collections

(2) Annual reporting and recordkeeping burden:

Estimated Number of Responses Annually: 141.

Estimated Burden per Response: 47 minutes.

Total Annual Reporting: 110 hours.

(3) Description of the need and use of the information: DOI will use the results of these information collection activities (the focus groups) to optimize the design of the survey instrument.

As required under 5 CFR 1320.8(d), a Federal Register notice soliciting comments on the collection of information was published on June 9, 2009 (74 FR 27340). No comments were received. This notice provides the public with an additional 30 days in which to comment on the proposed information collection activity.

IV. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a Federal agency.

An agency may not conduct or sponsor, and a person is not required to respond to, a collection of information unless it displays a currently valid Office of Management and Budget control number.

Dated: March 31, 2010.
Benjamin Simon,
Acting Economics Staff Director, Office of Policy Analysis.

[FR Doc. 2010-7710 Filed 4-5-10; 8:45 am]

BILLING CODE 4310-RK-P